DEPARTMENT OF HOUSING AND URBAN DEVELOPMENT

[Docket No. FR-7092-N-01]

Privacy Act of 1974; System of Records

AGENCY: Office of Public and Indian Housing, HUD.

ACTION: Notice of a rescindment of a system of records.

SUMMARY: Pursuant to the provisions of the Privacy Act of 1974, as amended, the Department of the Housing and Urban Development (HUD), Office of Public and Indian Housing, Office of Public Housing and Voucher Programs, is issuing a public notice of its intent to rescind the Effort-to-Outcomes (ETO) because the requirement for the Disaster Housing Assistance Program (DHAP) has ended.

DATES: This proposed action will be effective immediately upon publication. January 8, 2024.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, Chief Privacy Officer, 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Efforts-to-Outcomes (ETO) is being terminated because the ETO system was designed to contain information for a specific population (FEMA eligible referrals) for a specific use and amount of time (DHAP eligible families who worked towards self-sufficiency until program end). ETO system was used for program implementation activities related to the Disaster Housing Assistance Program (DHAP) case management services. DHAP is a Federal Emergency Management Agency (FEMA) pilot grant program to provide temporary rental subsidies and case management for non-HUD assisted individuals and families displaced by Hurricanes Gustav or Ike. HUD is the servicing agency that administers the DHAP program for FEMA. The program ended in 2011 and once over, none of the records would continue to be active because the information would not be eligible for existing HUD or FEMA programs and as such would no longer be needed. Records are no longer maintained by HUD and have run the record retention period and wiped from the system.

SYSTEM NAME AND NUMBER:

Effort to Outcomes (ETO).

HISTORY:

The previously published notice in the Federal Register [Docket Number FR-5386-N-15], on December 29, 2010, at 75 FR 82053.

Ladonne White,
Chief Privacy Officer, Office of Administration.

[FR Doc. 2024-00157 Filed 1-5-24; 8:45 am]

BILLING CODE P